DEPARTMENT OF COMMERCE

National Oceanic and Atmospheric Administration

[I.D. 102902A ]

Atlantic Highly Migratory Species; Advisory Panel Meetings.

AGENCY: National Marine Fisheries Service (NMFS), National Oceanic and Atmospheric Administration (NOAA), Commerce.

ACTION: Notification of Advisory Panel meetings.

SUMMARY: NMFS will hold joint meetings of the Atlantic Highly Migratory Species Advisory Panel (HMS AP) and the Atlantic Billfish Advisory Panel (Billfish AP), February 10 through 12, 2003, in Silver Spring, MD. The intent of these meetings is to consider alternatives for the conservation and management of highly migratory species.

DATES: The joint HMS-Billfish AP meetings will be held from 1 p.m. to 5 p.m. on Monday, February 10; from 8 a.m. to 5 p.m. on Tuesday, February 11; and from 8 a.m. to 5 p.m. on Wednesday, February 12, 2003.

ADDRESSES: The AP meetings will be held in the Holiday Inn, 8777 Georgia Ave. (Rt. 97), Silver Spring, MD 20910. Phone: 301-589-0800.

An agenda and materials related to the AP meeting will be available after January 2, 2003. Please contact Carol Douglas or Othel Freeman, Highly Migratory Species Management Division, 1315 East-West Highway, Silver Spring, MD 20910, 301-713-2347, for meeting logistics or materials.

FOR FURTHER INFORMATION CONTACT: Dr. Ronald G. Rinaldo, 301-713-2347.

SUPPLEMENTARY INFORMATION: The actions to be discussed by the APs are necessary to address requirements of the Magnuson-Stevens Fishery Conservation and Management Act and to implement recommendations of the International Commission for the Conservation of Atlantic Tunas as required by the Atlantic Tunas Convention Act, for the conservation and management of highly migratory species.

Special Accomodations

These meetings are physically accessible to people with disabilities. Requests for sign language interpretation or other auxiliary aids should be directed to Dr. Rinaldo (see FOR FURTHER INFORMATION CONTACT) at least 7 days prior to the meetings.

Authority: 16 U.S.C. 961 et seq., and 16 U.S.C. 1801 et seq.

Dated: November 8, 2002.
Bruce C. Morehead,
Acting Director, Office of Sustainable Fisheries, National Marine Fisheries Service.

[FR Doc. 02-29185 Filed 11-15-02; 8:45 am]

BILLING CODE 3510-22-S